DEPARTMENT OF ENERGY

Federal Energy Regulatory Commission

Combined Notice of Filings #2

Take notice that the Commission received the following electric rate filings:

Docket Numbers: ER16-2234-001.

Applicants: EF Kenilworth LLC.

Description: Report Filing: Supplement to Refund Report to be effective N/A.

Filed Date: 11/16/16.

Accession Number: 20161116-5108.

Comments Due: 5 p.m. ET 12/7/16.

Docket Numbers: ER17-358-000.

Applicants: Southwest Power Pool, Inc.

Description: § 205(d) Rate Filing: Enhanced Combined Cycle Tariff Revisions to be effective 3/1/2017.

Filed Date: 11/16/16.

Accession Number: 20161116-5026.

Comments Due: 5 p.m. ET 12/7/16.

Docket Numbers: ER17-359-000.

Applicants: PJM Interconnection, L.L.C.

Description: Tariff Cancellation: Notice of Cancellation of WMPA SA No. 3286; Queue No. X3-001 to be effective 1/13/2017.

Filed Date: 11/16/16.

Accession Number: 20161116-5065.

Comments Due: 5 p.m. ET 12/7/16.

Docket Numbers: ER17-360-000.

Applicants: Rio Bravo Solar I, LLC.

Description: Baseline eTariff Filing: MBR Application and Tariff to be effective 11/17/2016.

Filed Date: 11/16/16.

Accession Number: 20161116-5092.

Comments Due: 5 p.m. ET 12/7/16.

Docket Numbers: ER17-361-000.

Applicants: Pumpjack Solar I, LLC.

Description: Baseline eTariff Filing: MBR Application and Tariff to be effective 11/17/2016.

Filed Date: 11/16/16.

Accession Number: 20161116-5098.

Comments Due: 5 p.m. ET 12/7/16.

Docket Numbers: ER17-362-000.

Applicants: Rio Bravo Solar II, LLC.

Description: Baseline eTariff Filing: MBR Application and Tariff to be effective 11/17/2016.

Filed Date: 11/16/16.

Accession Number: 20161116-5099.

Comments Due: 5 p.m. ET 12/7/16.

Docket Numbers: ER17-363-000.

Applicants: Rio Bravo Solar I, LLC.

Description: § 205(d) Rate Filing: Co-Tenancy and Shared Facilities Agreement to be effective 11/17/2016.

Filed Date: 11/16/16.

Accession Number: 20161116-5100.

Comments Due: 5 p.m. ET 12/7/16.

Docket Numbers: ER17-364-000.

Applicants: Rio Bravo Solar II, LLC.

Description: § 205(d) Rate Filing: Co-Tenancy and Shared Facilities Agreement to be effective 11/17/2016.

Filed Date: 11/16/16.

Accession Number: 20161116-5101.

Comments Due: 5 p.m. ET 12/7/16.

Docket Numbers: ER17-365-000.

Applicants: Pumpjack Solar I, LLC.

Description: § 205(d) Rate Filing: Pumpjack-Rio Bravo SFA RS No. 1 to be effective 11/17/2016.

Filed Date: 11/16/16.

Accession Number: 20161116-5104.

Comments Due: 5 p.m. ET 12/7/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 16, 2016.
Nathaniel J. Davis, Sr.,
Deputy Secretary.

[FR Doc. 2016-28106 Filed 11-21-16; 8:45 am]

BILLING CODE 6717-01-P